DEPARTMENT OF ENERGY

Federal Energy Regulatory Commission

Combined Notice of Filings #2

Take notice that the Commission received the following electric corporate filings:

Docket Numbers: ER22-2418-000.

Applicants: AEP Texas Inc.

Description: § 205(d) Rate Filing: AEPTX-West Texas Solar Project II 3rd A&R Generation Interconnection Agreement to be effective 6/22/2022.

Filed Date: 7/19/22.

Accession Number: 20220719-5129.

Comment Date: 5 pm ET 8/9/22.

Docket Numbers: ER22-2419-000.

Applicants: Lockhart Solar PV, LLC.

Description: Baseline eTariff Filing: Market-Based Rate Application to be effective 9/18/2022.

Filed Date: 7/19/22.

Accession Number: 20220719-5130.

Comment Date: 5 pm ET 8/9/22.

Docket Numbers: ER22-2420-000.

Applicants: Lockhart Solar PV II, LLC.

Description: Baseline eTariff Filing: Market-Based Rate Application to be effective 9/18/2022.

Filed Date: 7/19/22.

Accession Number: 20220719-5131.

Comment Date: 5 pm ET 8/9/22.

Docket Numbers: ER22-2421-000.

Applicants: SR DeSoto I, LLC.

Description: Baseline eTariff Filing: Market-Based Rate Application to be effective 7/20/2022.

Filed Date: 7/19/22.

Accession Number: 20220719-5146.

Comment Date: 5 pm ET 8/9/22.

Docket Numbers: ER22-2422-000.

Applicants: SR Turkey Creek, LLC.

Description: Baseline eTariff Filing: Market-Based Rate Application to be effective 9/18/2022.

Filed Date: 7/19/22.

Accession Number: 20220719-5148.

Comment Date: 5 pm ET 8/9/22.

Docket Numbers: ER22-2423-000.

Applicants: SR DeSoto I Lessee, LLC.

Description: Baseline eTariff Filing: Market-Based Rate Application to be effective 7/20/2022.

Filed Date: 7/19/22.

Accession Number: 20220719-5149.

Comment Date: 5 pm ET 8/9/22.

Docket Numbers: ER22-2424-000.

Applicants: SR Bell Buckle, LLC.

Description: Baseline eTariff Filing: Market-Based Rate Application to be effective 9/18/2022.

Filed Date: 7/19/22.

Accession Number: 20220719-5152.

Comment Date: 5 pm ET 8/9/22.

Docket Numbers: ER22-2425-000.

Applicants: SR Clay, LLC.

Description: Baseline eTariff Filing: Market-Based Rate Application to be effective 7/20/2022.

Filed Date: 7/19/22.

Accession Number: 20220719-5153.

Comment Date: 5 pm ET 8/9/22.

Docket Numbers: ER22-2426-000.

Applicants: SR McKellar, LLC.

Description: Baseline eTariff Filing: Market-Based Rate Application to be effective 9/18/2022.

Filed Date: 7/19/22.

Accession Number: 20220719-5155.

Comment Date: 5 pm ET 8/9/22.

Docket Numbers: ER22-2427-000.

Applicants: SR Cedar Springs, LLC.

Description: Baseline eTariff Filing: Market-Based Rate Application to be effective 7/20/2022.

Filed Date: 7/19/22.

Accession Number: 20220719-5156.

Comment Date: 5 pm ET 8/9/22.

Docket Numbers: ER22-2428-000.

Applicants: SR McKellar Lessee, LLC.

Description: Baseline eTariff Filing: Market-Based Rate Application to be effective 9/18/2022.

Filed Date: 7/19/22.

Accession Number: 20220719-5157.

Comment Date: 5 pm ET 8/9/22.

Take notice that the Commission received the following electric securities filings:

Docket Numbers: ES22-53-000.

Applicants: AEP Generating Company.

Description: Application Under Section 204 of the Federal Power Act for Authorization to Issue Securities of AEP Generating Company.

Filed Date: 7/18/22.

Accession Number: 20220718-5208.

Comment Date: 5 pm ET 8/8/22.

Take notice that the Commission received the following electric reliability filings:

Docket Numbers: RR21-10-001.

Applicants: North American Electric Reliability Corporation.

Description: Compliance Filing of the North American Electric Reliability Corporation In Response to the Order On the Rules of Procedure Revisions to the Compliance Monitoring and Enforcement Program.

Filed Date: 7/18/22.

Accession Number: 20220718-5218.

Comment Date: 5 pm ET 8/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2022.
Debbie-Anne A. Reese,
Deputy Secretary.

[FR Doc. 2022-15841 Filed 7-22-22; 8:45 am]

BILLING CODE 6717-01-P